DEPARTMENT OF LABOR

Office of the Secretary

Bureau of International Labor Affairs; U.S. National Administrative Office; North American Agreement on Labor Cooperation; Hearing on Submission #2000-1

AGENCY: Office of the Secretary, Labor.

ACTION: Notice of Hearing.

SUMMARY: The purpose of this notice is to announce a hearing, open to the public, on Submission #2000-1.

Submission #2000-1, was filed with the U.S. National Administrative Office (NAO) on July 3, 2000, by the Coalition for Justice in the Maquiladoras (CJM), current and former workers at Auto Trim/Breed Mexicana, and twenty-two additional unions and non-governmental organizations, including the United Auto Workers (UAW), the United Electrical, Radio and Machine Workers of America (UE), and the AFL-CIO. The submission was accepted for review by the NAO on September 1, 2000, and a notice of acceptance for review was published in the Federal Register on September 7, 2000.

Article 16 (3) of the North American Agreement on Labor Cooperation (NAALC) provides for the review of labor law matters in Canada and Mexico by the NAO in accordance with U.S. domestic procedures. Revised procedural guidelines pertaining to the submission, review, and reporting process utilized by the office were published in the Federal Register on April 7, 1994 (59 FR 16660). The guidelines provide for a discretionary hearing as part of the review.

DATES: The hearing will be held on December 12, 2000, commencing at 9:00 a.m. Persons desiring to present oral testimony at the hearing must submit a request in writing, along with a written statement or brief describing the information to be presented or position to be taken.

ADDRESSES: The hearing will be held at the City Council Chambers, 103 Main Plaza, Municipal Plaza Building, San Antonio, Texas 78205. Written statements or briefs and requests to present oral testimony may be mailed or hand delivered to the U.S. National Administrative Office (NAO), Department of Labor, 200 Constitution Avenue, NW., Room C-4327, Washington, DC 20210. Requests to present oral testimony and written statements or briefs must be received by the NAO no later than close of business November 28, 2000.

FOR FURTHER INFORMATION CONTACT: Lewis Karesh, Secretary, U.S. National Administrative Office, Department of Labor, 200 Constitution Avenue, NW., Room C-4327, Washington, DC 20210. Telephone: (202) 501-6653 (this is not a toll free number).

SUPPLEMENTARY INFORMATION:

I. Nature and Conduct of Hearing

As set out in the notice published in the Federal Register on September 7, 2000, the objective of the review will be to gather information to assist the NAO to better understand and publicly report on occupational safety and health issues and compensation in cases of occupational injuries and illnesses raised in the submission, including the Government of Mexico's compliance with the obligations agreed to under Articles 3,4,5, and 7 of the NAALC.

The hearing will be conducted by the Secretary of the NAO or the Secretary's designee. It will be open to the public. All proceedings will be conducted in English, with simultaneous translation in English and Spanish provided. The public files for the submission, including written statements, briefs, and requests to present oral testimony, will be made a part of the appropriate hearing record. The public files will also be available for inspection at the NAO prior to the hearing.

The hearing will be transcribed. A transcript of the proceeding will be made available for inspection, as provided for in Section E of the procedural guidelines, or may be purchased from the reporting company.

Disabled persons should contact the Secretary of the NAO no later than November 28, 2000 if special accommodations are needed.

II. Written Statements or Briefs and Requests To Present Oral Testimony

Written statements or briefs shall provide a description of the information to be presented or position taken and shall be legibly typed or printed. Requests to present oral testimony shall include the name, address, and telephone number of the witness, the organization represented, if any, and any other information pertinent to the request. Five copies of a statement or brief and a single copy of a request to present oral testimony shall be submitted to the NAO at the time of filing.

No request to present oral testimony will be considered unless accompanied by a written statement or brief. A request to present oral testimony may be denied if the written statement or brief suggests that the information sought to be provided is unrelated to the review of the submission or for other appropriate reasons. The NAO will notify each requester of the disposition of the request to present oral testimony.

In presenting testimony, the witness should summarize the written statement or brief, may supplement the written statement or brief with relevant information, and should be prepared to answer questions from the Secretary of the NAO or the Secretary's designee. Oral testimony will ordinarily be limited to a ten minute presentation, not including the time for questions. Persons desiring more than ten minutes for their presentation should so state in the request, setting out reasons why additional time is necessary.

The requirements relating to the submission of written statements or briefs and requests to present oral testimony may be waived by the Secretary of the NAO for reasons of equity and public interest.

Signed at Washington, D.C. on November 3, 2000.
Lewis Karesh,
Acting Secretary, U.S. National Administrative Office.

[FR Doc. 00-28656 Filed 11-7-00; 8:45 am]

BILLING CODE 4510-28-P